DEPARTMENT OF COMMERCE

National Oceanic and Atmospheric Administration

50 CFR Part 665

[Docket No. 0612242967-7394-01]

RIN 0648-AS71

Fisheries in the Western Pacific; Pelagic Fisheries; Squid Jig Fisheries

AGENCY: National Marine Fisheries Service (NMFS), National Oceanic and Atmospheric Administration (NOAA), Commerce.

ACTION: Proposed rule; request for comments.

SUMMARY: This proposed rule would include three species of pelagic squid under Federal management, and establish permitting and reporting requirements for squid jig fishing vessels over 50 ft (15.4 m) in length. These vessels would also be required to carry Federal observers if requested by NMFS. This proposed rule is intended to improve monitoring and management of U.S. domestic pelagic squid fisheries in the western Pacific.

DATES: Comments on this proposed rule must be received by October 14, 2008.

ADDRESSES: Comments on the amendment, identified by 0648-AS71, may be sent to either of the following addresses:

• Electronic Submission: Federal e-Rulemaking Portal www.regulations.gov; or

• Mail: William L. Robinson, Regional Administrator, NMFS, Pacific Islands Region (PIR), 1601 Kapiolani Blvd, Suite 1110, Honolulu, HI 96814-4700.

Instructions: All comments received are a part of the public record and will generally be posted to www.regulations.gov without change. All personal identifying information (e.g., name, address, etc.) submitted voluntarily by the commenter may be publicly accessible. Do not submit confidential business information, or otherwise sensitive or protected information. NMFS will accept anonymous comments (if you wish to remain anonymous, enter “NA” in the required name and organization fields). Attachments to electronic comments will be accepted in Microsoft Word or Excel, WordPerfect, or Adobe PDF file formats only.

Copies of the Fishery Management Plan for Pelagic Fisheries of the Western Pacific Region (Pelagics FMP), and proposed Amendment 15 including an environmental assessment (EA), are available from the Western Pacific Fishery Management Council (Council), 1164 Bishop St., Suite 1400, Honolulu, HI 96813, tel 808-522-8220, fax 808-522-8226, or www.wpcouncil.org.

FOR FURTHER INFORMATION CONTACT: Bob Harman, NMFS PIR, 808-944-2271.

SUPPLEMENTARY INFORMATION: This Federal Register document is also accessible at the Office of the Federal Register website: www.gpoaccess.gov/fr.

The pelagic fisheries of the U.S. western Pacific are managed under the Pelagics FMP, which was developed by the Council, and approved and implemented by NMFS. The Council has submitted Pelagics FMP Amendment 15 to NMFS for review under the Magnuson-Stevens Fishery Conservation and Management Act (Magnuson-Stevens Act). This proposed rule would implement the management provisions recommended in Amendment 15, if approved by the Secretary of Commerce. Although no squid resource concerns have arisen to date, effective monitoring programs and mechanisms to implement management measures are both needed. To address these needs, the Council recommends in Amendment 15 improving data on U.S. squid fisheries through new permitting, monitoring and reporting requirements, as follows:

• Add three pelagic squid species to the pelagic management unit (neon flying squid, Ommastrephes bartramii, diamondback squid, Thysanoteuthis rhombus, and purple flying squid, Sthenoteuthis oualaniensis); and

• Require operators of U.S. vessels greater than 50 ft (15.4 m) in length overall that fish for pelagic squid in waters of the U.S. Exclusive Economic Zone (EEZ) of the western Pacific to:

i. obtain Federal permits;

ii. carry Federal observers if requested by NMFS; and

iii. report any western Pacific pelagic squid catch and effort either in Federal squid logbooks or via existing local reporting systems.

These measures, if implemented, would provide additional data and a mechanism for the Council and NMFS to effectively monitor and manage the U.S. domestic pelagic squid fisheries.

Pelagic squid are widely dispersed and short-lived, with relatively high reproduction rates. Thus, populations recover quickly following declines and are difficult to over-harvest with relatively inefficient fishing methods such as jigging. For example, stock abundance of neon flying squid in the central North Pacific was low in 1993, probably due to high fishing mortality from the high seas drift gillnet fishery. That fishery was banned in 1992, and the stocks quickly recovered and abundance was high during 1994-96. Stock abundance was again depressed in 1997 (the most prominent El Nino year in the last century), but was high in 1998. There is no evidence of over-harvesting of pelagic squid stocks on the high seas or in EEZ waters around U.S. islands in the western Pacific.

Pelagic squid are targeted by food and bait fisheries throughout the Pacific. They are a major component of the pelagic ecosystem, with large species preying on a variety of fish and invertebrate species, and smaller species providing important forage components for species such as swordfish and pilot whales. This “keystone” role of squid in the trophic web suggests that squid may be an important indicator of ecosystem dynamics. An international, large-scale, multi-species squid jigging fishery exists on the Pacific high seas, including foreign and a few U.S. fishing vessels. The Japanese jigging fleet was once dominant in the North Pacific, but is now rivaled by a growing Chinese fleet. The fishery is seasonal with most vessels switching to the Southern Hemisphere during the southern summer (October-February). Three U.S. squid jig vessels fished for squid in the North Pacific for a month or less in the summer of 2003, catching red flying squid on the high seas and offloading in Japan. Following a disappointing season, they moved to New Zealand waters for the 2003 summer/autumn squid season. To date, these domestic jigging vessels have fished on the high seas or in the waters of other nations, but there is a possibility of moving their fishing activities to U.S. EEZ waters around Hawaii in association with a shift in oceanic conditions. In addition to this large-vessel fishery, a few smaller vessels target purple flying squid with jigs near the Hawaiian Islands. This smaller fishery provides squid for the seafood market, and bait for the tuna handline fishery.

Although U.S. fisheries in the northern waters of the western Pacific catch a tiny fraction of the total international squid production, data provided by monitoring of these fisheries are, as yet, the only indicator available of squid stock status. The first issue to be addressed in the proposed rule is the need for improved information about U.S. squid jig fisheries. To effectively monitor and manage these fisheries, there is a need to ensure that U.S. catches of squid in the western Pacific are recorded accurately. For fishing on the high seas, the HSFCA requires catch reporting, but to date there has been no specific HSFCA logbook for squid jig fishing. Commercial landings of squid offloaded in Hawaii (regardless of where caught) are required to be reported on Hawaii state catch reports. Recreational catches landed in Hawaii are not subject to any reporting requirements (although recreational squid harvests are believed to be small and are not a concern to resource managers). With the exception of the Pacific remote island areas (PRIA), creel surveys are conducted in the other areas of the U.S. western Pacific to collect data on both commercial and recreational fishing activities. The information collected from these disparate programs have not been compiled for efficient analyses by resource scientists and managers.

U.S. squid jig vessels that fish only on the high seas in the western Pacific would be required to report their catch and effort using the Federal squid logbooks, pursuant to the reporting and recordkeeping provision of the High Seas Fishing Compliance Act (HSFCA). The reporting requirements of the HSFCA (50 CFR 300.17(b)(3)) provide the necessary regulatory authority for NMFS to require squid jig fishermen to use Federal logbooks that would be implemented under this proposed rule to meet the reporting requirements under both the HSFCA and the Magnuson-Stevens Act.

In addition to data needs, a second issue regarding the domestic squid jigging fishery is that there is no management mechanism to implement fishery regulatory controls, should concerns arise regarding squid stocks or other aspects of the fishery. Squid resources are healthy, the domestic fishery is relatively small, and there have been no observed or reported interactions with protected species or significant levels of bycatch. Thus, specific management measures (such as time or area closures, or effort or landing limits) are not being considered at this time. However, the establishment of mechanisms to implement management measures would allow for regulatory controls to be put in place if data collected indicate a future need for additional management measures.

To be considered, comments must be received by close of business on October 14, 2008, not postmarked or otherwise transmitted by that date.

In addition to soliciting public comments on this proposed rule, NMFS is soliciting comments on proposed Amendment 15 through October 10, 2008 as stated in the Notice of Availability published on August 11, 2008 (73 FR 46580). Public comments on this proposed rule, if received by October 10, 2008, will also be considered in the approval/disapproval decision for Amendment 15. Comments received after that date will not be considered in the approval/disapproval decision for Amendment 15, but will be considered for this proposed rule.

Classification

Pursuant to section 304 (b)(1)(A) of the Magnuson-Stevens Act, the NMFS Assistant Administrator has determined that this proposed rule is consistent with the Pelagics FMP, other provisions of the Magnuson-Stevens Act, and other applicable laws, subject to further consideration after public comment.

Amendment 15 includes an EA that describes the existing squid fishery management and environment, and describes the potential environmental impacts of implementing the provisions of the preferred alternative. The EA tiers off a 2005 Final Environmental Impact Statement (2005 EIS) (70 FR 24038, May 6, 2005), and incorporates by reference the previous environmental impact analysis of the five alternatives considered in Amendment 15, specifically Alternative 1, the no-action alternative, Alternative 2, voluntary monitoring, Alternative 3, mandatory monitoring and management under the Pelagics FMP, Alternative 4, mandatory monitoring and management through a new squid FMP, and Alternative 5, mandatory monitoring and management through international agreements. All of the previous alternatives considered in the April 2005 EIS were coordinated with interested and affected parties. New information about future fishery management policies became available after the 2005 EIS was completed, and an additional alternative (Alternative 3a) was added and analyzed in the EA. Alternative 3a is similar to Alternative 3 in the 2005 EIS, but the revised alternative now contains provisions for mandatory Federal permits and logbooks reporting for vessels greater than 50 ft (15.4 m) in length that fish for squid in the U.S. EEZ waters of the western Pacific, and a requirement to carry Federal observers when requested by NMFS.

The purpose and need for the proposed action is to establish appropriate monitoring and management mechanisms for the domestic harvest of western Pacific pelagic squid. Based on the information in the EA and the 2005 EIS, as compared to the no-action alternative, preferred Alternative 3a would have no adverse impacts to essential fish habitat or habitat areas of particular concern. None of the action alternatives would be expected to change the impacts of U.S. vessels on squid resources in the short term, but impacts on the resource base could increase with higher future effort, so increasing fishery managers' understanding of the status of the stocks and fishing mortality would be an important outcome of this action. By including pelagic squid as management unit species under the preferred alternative, the foundation would be established for implementing control measures, should they become necessary. None of the action alternatives is anticipated to have any significant adverse impacts on seabird, sea turtle, or marine mammal populations because the fishery has a relatively low level of participation, and there have been no observed or reported interactions with protected resources in either the nearshore Hawaii squid fishery or the U.S. high seas squid jig fishery. The preferred alternative would provide for the sustained participation of fishing communities by helping to ensure the long-term availability of Pacific pelagic squid. The complete analysis of the alternatives is contained in the 2005 EIS and in Amendment 15, and is not repeated here. Copies of these two environmental analytical documents are available from the Council (see ADDRESSES).

This proposed rule has been determined to be not significant for purposes of Executive Order 12866.

The Chief Council for Regulation of the Department of Commerce certified to the Chief Council for Advocacy of the Small Business Administration that this proposed rule, if adopted, would not have a significant economic impact on a substantial number of small entities. The analysis follows:

The Western Pacific Fishery Management Council (Council) prepared Amendment 15 to the Pelagics FMP. Amendment 15 recommends including three species of commercially-harvested pelagic squid (neon flying squid, purple flying squid, and diamondback squid) as pelagic management unit species. Amendment 15 would establish Federal permitting, data reporting, and observer requirements for squid jigging vessels over 50 ft (15.4 m) in length that fish in the U.S. EEZ of the western Pacific, or land these squid in ports of the region. A description of the action, why it is being considered, and the legal basis for this action are contained in the preamble to this proposed rule. This rule does not duplicate, overlap, or conflict with other Federal rules. There are no disproportionate economic impacts from this rule based on homeport, gear type, or relative vessel size. Pursuant to section 605(b) of the Regulatory Flexibility Act, 5 U.S.C. § 605(b), NMFS has determined that this rule will not have a significant economic impact on a substantial number of small entities based on the pre-existing status of pelagic squid fisheries within the U.S. EEZ of the central and western Pacific. All vessels having the potential to participate in this fishery are considered to be small entities under the current Small Business Administration definition of small fish-harvesting businesses (gross receipts not in excess of $ 4.0 million, independently owned and operated, and not dominant in their field).

This proposed rule would improve mandatory monitoring and establish mechanisms for management by including these squids in the management unit. This rule would require U.S. vessels greater than 50 ft (15.4 m) in length overall that fish for pelagic squid in U.S. Pacific EEZ to obtain Federal permits, to carry observers if requested by NMFS, and to report their catch and effort using either NMFS western Pacific squid jigging logbooks or existing local reporting systems. High seas squid harvests would be reported in the squid jigging logbooks. The fishery data would be centralized into a database easily available to resource scientists and managers.

An international, large-scale squid jigging fishery (multi-species) exists on the Pacific high seas. This includes both foreign and, until recently, a few domestic (U.S. flagged) fishing vessels. Three U.S. flagged squid jiggers fished for squid in the North Pacific in the summer of 2003, catching neon flying squid before traveling to the Southern Hemisphere. (The fishery is seasonal with most vessels switching to the Southern Hemisphere during the southern summer, October-February.) The operation consisted of a mother ship, 47 m long with 38 jigging machines, and holding up to 453,600 kg of squid, with a crew of 18. The other three boats ranged from 32-34 m in length. Each had 21-38 jigging machines, holding 204,100 to 386,000 kg of squid, with crews of 12. Blast freezers were installed on board all four boats. While squid catches as high as 8,000 kg per vessel per night have been reported by some operations, the recent domestic operation in the North Pacific caught a combined total of 20,253 kg of red flying squid for three vessels fishing over 22 days in 2003.

In addition, a small nearshore squid jigging fishery operating out of Kauai and a tuna handline fishery operating primarily from the Big Island of Hawaii have been known to target purple flying squid for food and/or bait. Although significant in the 1970s and 1980s, current participation in this fishery is now estimated to consist of only a few vessels. Nonetheless, due to shifts in both economic and oceanic conditions, there exists the potential for domestic squid jigging effort to shift from the high seas to the U.S. EEZ around Hawaii.

Economic impacts of the preferred alternative would have a slightly adverse economic impact in the requirement to pay a vessel permit fee of approximately $30. Using average prices for squid sold in Hawaii during the summer of 2003 ($1.81/lb), a permit fee of $30 represents only 0.15% of the average boat revenue for the known boats jigging for squid in the North Pacific during 2003. The largest potential impact to affected participants is the observer requirement for vessels greater than 50 ft (15.4 m) in length overall contained in the preliminarily preferred alternative. Assuming that the costs of deploying (paying and feeding) observers would be paid by NMFS (as has been the case in the western Pacific region to date), vessel operators will still incur some indirect costs. Limited bunk or deck space may require vessel operators to reduce the number of crew in order to accommodate observers, resulting in a decrease in the operating efficiency of the remaining crew. There may be additional costs if vessel operators choose to carry additional liability insurance (beyond that provided by NMFS for its observers). These costs would vary between individual vessels depending on the insurance carriers' minimum allowed coverage period, and the coverage approach that is taken. The number of entities that will be required to carry observers is unknown as the appropriate level of observer coverage has not been determined, however, given that no vessels of this size have fished for pelagic squid in Pacific U.S. EEZ waters without landing them in the U.S.A. to date, this burden may be minimal. It is possible that a squid fishery observer program could operate on an intermittent basis if the low levels of bycatch and protected species interactions believed to occur are confirmed. The remaining aspects of the preferred alternative consist of the requirement for vessels greater than 50 ft (15.4 m) in length overall to obtain Federal permit and to either complete new Federal logbooks or to participate in local reporting systems.

Because there are no fishery-management controls associated with this measure that affect the operations of the fishery other than potentially carrying observers, significant impacts to the profitability of a substantial number of small entities are not anticipated and there will be no disproportionate impact between gear types, vessels or port of landing. As a result, an initial regulatory flexibility analysis is not required and none has been prepared.

This proposed rule contains collection-of-information requirements subject to review and approval by the Office of Management and Budget (OMB) under the Paperwork Reduction Act (PRA). These requirements have been submitted to OMB for approval. The preferred alternative would require the owners of all U.S. vessels greater than 50 ft (15.4 m) in length that conduct commercial squid jig fishing for squid in U.S. EEZ waters around the islands of the western Pacific to obtain Federal fishing permits, and the vessel operators would be required to complete and submit Federal catch reports, or report via local reporting systems where such systems exist. Permit eligibility would not be restricted in any way, and the permit would be renewable on an annual basis.

NMFS anticipates that initial permit applications would require 0.5 hours per applicant, with renewals requiring an additional 0.5 hours annually. It is estimated that NMFS may receive and process up to 30 permit applications each year. Thus, the total collection-of-information burden to fishermen for permit applications is estimated at 15 hours per year. The cost for individual Federal permits has not been determined, but would represent only the administrative cost and is anticipated to be approximately $30 per permit.

NMFS anticipates the time requirement to complete Federal catch reports to be approximately 10 minutes per vessel per fishing day. Assuming that the 30 vessels fish during up to 100 days per year, the total collection-of-information burden estimate for fishing data reporting is estimated at 500 hours per year.

These estimates include the time for reviewing instructions, searching and compiling existing data sources, and completing and reviewing the collection information. Public comment is sought regarding: whether this proposed collection of information is necessary for the proper performance of the functions of the agency, including whether the information shall have practical utility; the accuracy of the burden estimates; ways to enhance the quality, utility, and clarity of the information to be collected; and ways to minimize the burden of the collection of information, including through the use of automated collection techniques or other forms of information technology. Send comments on these or any other aspects of the collection of information to William L. Robinson (see ADDRESSES), and by email to David_Rostker@omb.eop.gov or by fax to 202-395-7285.

Notwithstanding any other provision of the law, no person is required to respond to, and no person shall be subject to penalty for failure to comply with, a collection of information subject to the requirements of the PRA, unless that collection of information displays a currently valid OMB control number.

List of Subjects in 50 CFR Part 665

Administrative practice and procedure, American Samoa, Fisheries, Fishing, Guam, Hawaii, Hawaiian Natives, Northern Mariana Islands, Pacific remote island areas, Reporting and recordkeeping requirements.

Dated: August 22, 2008.
Samuel D. Rauch III,
Deputy Assistant Administrator For Regulatory Programs, National Marine Fisheries Service.

For the reasons set out in the preamble, 50 CFR part 665 is proposed to be amended as follows:

PART 665—FISHERIES IN THE WESTERN PACIFIC

1. The authority citation for part 665 continues to read as follows:

Authority: 16 U.S.C. 1801 et seq.

2. In § 665.12, amend the definition for “Pacific Pelagic Management Unit Species,” by adding three squid species to the end of the table, and add a definition for “Squid jig fishing” in alphabetical order to read as follows:

§ 665.12 Definitions.

* * * * *

Pacific Pelagic Management Unit Species * * *

Common name | Scientific name
* * * * * |
Squid: |
Diamondback squid | Thysanoteuthis rhombus
Neon flying squid | Ommastrephes bartramii
Purple flying squid | Sthenoteuthis oualaniensis

* * * * *

Squid jig fishing means fishing for squid that are Pelagic management unit species using a hook or hooks attached to a line that is raised and lowered in the water column by manual or mechanical means.

* * * * *

3. In § 665.13, revise paragraphs (f)(2)(i) through (f)(2)(v), and add a new paragraph (f)(2)(vi) to read as follows:

§ 665.13 Permits and fees.

* * * * *

(f) Fees. * * *

(2) * * *

(i) Hawaii longline limited access permit.

(ii) Mau Zone limited access permit.

(iii) Coral reef ecosystem special permit

(iv) American Samoa longline limited access permit.

(v) Main Hawaiian Islands non-commercial bottomfish permit.

(vi) Western Pacific squid jig permit.

* * * * *

4. In § 665.14, revise paragraph (a)(1) to read as follows:

§ 665.14 Reporting and recordkeeping.

(a) Fishing record forms. (1) Applicability. (i) The operator of any fishing vessel subject to the requirements of §§ 665.21, 665.41, 665.61(a)(2), 665.61(a)(3), 665.61(a)(4), 665.81, or 665.602 must maintain on board the vessel an accurate and complete record of catch, effort, and other data on paper report forms provided by the Regional Administrator, or electronically as specified and approved by the Regional Administrator, except as allowed in paragraph (a)(1)(iii) of this section.

(ii) All information specified by the Regional Administrator must be recorded on paper or electronically within 24 hours after the completion of each fishing day. The logbook information, reported on paper or electronically, for each day of the fishing trip must be signed and dated or otherwise authenticated by the vessel operator in the manner determined by the Regional Administrator, and be submitted or transmitted via an approved method as specified by the Regional Administrator, and as required by this paragraph (a).

(iii) In lieu of the requirements in paragraph (a)(1)(i) of this section, the operator of a fishing vessel registered for use under a Western Pacific squid jig permit pursuant to the requirements of § 665.21(g) may participate in a state reporting system. If participating in a state reporting system, all required information must be recorded and submitted in the exact manner required by applicable state law or regulation.

* * * * *

5. In § 665.21, redesignate paragraphs (g) through (n) as paragraphs (h) through (o), and add a new paragraph (g) to read as follows:

§ 665.21 Permits.

* * * * *

(g) A vessel of the United States must be registered for use under a Western Pacific squid jig fishing permit, if that vessel is more than 50 ft (15.4 m) in length overall and is used to squid jig fish in EEZ waters around American Samoa, the CNMI, Guam, the Hawaiian Archipelago, or the PRIA.

* * * * *

6. In § 665.22 add new paragraph (zz) to read as follows:

§ 665.22 Prohibitions.

* * * * *

(zz) Use a vessel that is greater than 50 ft (15.4 m) in length overall to squid jig fish in EEZ waters around American Samoa, the CNMI, Guam, the Hawaiian Archipelago, or the PRIA, without a Western Pacific squid jig fishing permit registered for use with that vessel, in violation of § 665.21(g).

7. In § 665.23, revise paragraph (a), redesignate paragraphs (b) and (c) as paragraphs (d) and (e), and add new paragraphs (b) and (c) to read as follows:

§ 665.23 Notifications.

(a) The permit holder, or designated agent, for any vessel registered for use under a Hawaii longline limited access permit, or for any vessel greater than 40 ft (12.2 m) in length overall that is registered for use under an American Samoa longline limited access permit, shall provide a notice to the Regional Administrator at least 72 hours (not including weekends and Federal holidays) before the vessel leaves port on a fishing trip, any part of which occurs in the EEZ around the Hawaiian Archipelago or American Samoa. The vessel operator will be presumed to be an agent designated by the permit holder unless the Regional Administrator is otherwise notified by the permit holder. The permit holder or designated agent for a vessel registered for use under Hawaii longline limited access permits must also provide notification of the trip type (either deep-setting or shallow-setting).

(b) The permit holder, or designated agent, for any vessel registered for use under a Western Pacific squid jig fishing permit that is greater than 50 ft (15.4 m) in length overall, shall provide a notice to the Regional Administrator at least 72 hours (not including weekends and Federal holidays) before the vessel leaves port on a fishing trip, any part of which occurs in Western Pacific waters. The vessel operator will be presumed to be an agent designated by the permit holder unless the Regional Administrator is otherwise notified by the permit holder.

(c) For purposes of this section, the notice must be provided to the office or telephone number designated by the Regional Administrator. The notice must provide the official number of the vessel, the name of the vessel, the intended departure date, time, and location, the name of the operator of the vessel, and the name and telephone number of the permit holder or designated agent to be available between 8 a.m. and 5 p.m. (local time) on weekdays for NMFS to contact to arrange observer placement.

* * * * *

[FR Doc. E8-20004 Filed 8-27-08; 8:45 am]

BILLING CODE 3510-22-S